DEPARTMENT OF HEALTH AND HUMAN SERVICES

Substance Abuse and Mental Health Services Administration

Fiscal Year (FY) 2003 Funding Opportunity

AGENCY: Substance Abuse and Mental Health Services Administration, HHS.

ACTION: Notice of funding availability for Cooperative Agreements to Conduct Targeted Capacity Expansion (TCE) of Ecstasy and Other Club Drugs Prevention Interventions and/or Infrastructure Development.

SUMMARY: The Substance Abuse and Mental Health Services Administration (SAMHSA) Center for Substance Abuse Prevention announces the availability of FY 2003 funds for the grant program described below. A synopsis of this funding opportunity, as well as many other Federal government funding opportunities, is also available at the Internet site: www.fedgrants.gov.

This notice is not a complete description of the program; potential applicants must obtain a copy of the Request for Applications (RFA), including part I, Cooperative Agreements to Conduct Targeted Capacity Expansion (TCE) of Ecstasy and Other Club Drugs Prevention Interventions and/or Infrastructure Development SP 03-007, part II, General Policies and Procedures Applicable to all SAMHSA Applications for Discretionary Grants and Cooperative Agreements, and the PHS 5161-1 (Rev. 7/00) application form before preparing and submitting an application.

Funding Opportunity Title: Cooperative Agreements to Conduct Targeted Capacity Expansion (TCE) of Ecstasy and Other Club Drugs Prevention Interventions and/or Infrastructure Development—Short Title: Prevention of Ecstasy Abuse.

Funding Opportunity Number: SP 03-007.

Catalog of Federal Domestic Assistance (CFDA) Number: 93.243.

Authority: 519E of the Public Health Service Act, as amended and subject to the availability of funds.

Funding Instrument: CA.

Funding Opportunity Description: The Substance Abuse and Mental Health Services Administration (SAMHSA), Center for Substance Abuse Prevention is accepting applications for fiscal year 2003 for cooperative agreements to conduct targeted capacity expansion of ecstasy and other club drug prevention interventions and/or infrastructure development.

Eligible Applicants: Eligible applicants are public and domestic private non-profit entities such as units of State and local governments, Indian tribes and tribal organizations, community-based organizations, managed care and other health care delivery systems, universities and colleges, faith-based organizations, local law enforcement agencies, and current grantees as well as entities that are not current grantees.

Due Date for Applications: July 22, 2003.

Estimated Funding Available/Number of Awards: Approximately $4 million will be available for 14 awards in FY 2003. The average award will range from $300,000 to $350,000 in total costs (direct and indirect). Applications with proposed budgets that exceed $350,000 will be returned without review. Actual funding levels will depend on the availability of funds.

Is Cost Sharing Required: No.

Period of Support: Awards may be requested for up to one year. Depending on the availability of funds, grantees may be allowed to apply for limited competitive renewal at the end of the first year to continue funding for an additional one or two years.

How to Get Full Announcement and Application Materials: Complete application kits may be obtained from: the National Clearinghouse for Alcohol and Drug Information (NCADI) at 1-800-729-6686. The PHS 5161-1 application form and the full text of the funding announcement are also available electronically via SAMHSA's World Wide Web Home Page: http://www.samhsa.gov (click on ‘Grant Opportunities’).

When requesting an application kit, the applicant must specify the funding opportunity title and number for which detailed information is desired. All information necessary to apply, including where to submit applications and application deadline instructions, are included in the application kit.

Contact for Additional Information: Pamela C. Roddy, Ph.D, Substance Abuse and Mental Health Services Administration, Center for Substance Abuse and Prevention, 5600 Fishers Lane, Rockwall II, Suite 1075, Rockville, MD 20857, (301) 443-1001, E-Mail: proddy@samhsa.gov.

Dated: May 2, 2003.
Richard Kopanda,
Executive Officer, Substance Abuse and Mental Health Services Administration.

[FR Doc. 03-11394 Filed 5-7-03; 8:45 am]

BILLING CODE 4162-20-P